DEPARTMENT OF THE TREASURY

Open Meeting of the President's Economic Recovery Advisory Board (the PERAB)

AGENCY: Office of the Under Secretary for Domestic Finance, Treasury.

ACTION: Notice of meeting time change.

SUMMARY: The President's Economic Recovery Advisory Board will convene its first meeting on May 20, 2009, in the White House, 1600 Pennsylvania Avenue, NW., Washington, DC, beginning at 9:30 a.m. Eastern Time instead of 1 p.m. Eastern Time as originally announced in the May 5, 2009 Notice of Open Meeting. The meeting will be open to the public via live webcast at http://www.whitehouse.gov.

DATES: The meeting will be held on May 20, 2009 at 9:30 a.m. Eastern Time.

ADDRESSES: The PERAB will convene its first meeting in the White House, 1600 Pennsylvania Avenue, NW., Washington, DC. The public is invited to submit written statements to the Advisory Committee by any of the following methods:

Electronic Statements

• Send written statements to the PERAB's electronic mailbox at PERAB@do.treas.gov; or

Paper Statements

• Send paper statements in triplicate to Michelle Greene, Designated Federal Officer, President's Economic Recovery Advisory Board, Office of the Under Secretary for Domestic Finance, Room 2326, Department of the Treasury, 1500 Pennsylvania Avenue, NW., Washington, DC 20220.

In general, all statements will be posted on the White House Web site (http://www.whitehouse.gov) without change, including any business or personal information provided, such as names, addresses, e-mail addresses, or telephone numbers. The Department will also make such statements available for public inspection and copying in the Department's Library, Room 1428, Main Department Building, 1500 Pennsylvania Avenue, NW., Washington, DC 20220, on official business days between the hours of 10 a.m. and 5 p.m. Eastern Time. You can make an appointment to inspect statements by telephoning (202) 622-0990. All statements, including attachments and other supporting materials received, are part of the public record and subject to public disclosure. You should submit only information that you wish to make available publicly.

FOR FURTHER INFORMATION CONTACT: Michelle Greene, Designated Federal Officer, President's Economic Recovery Advisory Board, Office of the Under Secretary for Domestic Finance, Department of the Treasury, Main Department Building, 1500 Pennsylvania Avenue, NW., Washington, DC 20220, at (202) 622-2610.

SUPPLEMENTARY INFORMATION: On May 5, 2009, the Department published a Federal Register Notice announcing that the first open meeting of the PERAB would be held on May 20, 2009 at 1 p.m. Eastern Time. Due to exceptional circumstances resulting from the President seeking to attend and address the PERAB, the time of the meeting has been changed to accommodate the President's schedule. The meeting will now be held at 9:30 a.m. Eastern Time. In accordance with Section 10(a) of the Federal Advisory Committee Act, 5 U.S.C. App. II, § 10(a), and the regulations thereunder, Michelle Greene, Designated Federal Officer of the Advisory Board, has ordered publication of this notice that the PERAB will convene its first meeting on May 20, 2009, in the White House, 1600 Pennsylvania Avenue, NW., Washington, DC, beginning at 9:30 a.m. Eastern Time. The meeting will be open to the public. While the meeting room will accommodate a reasonable number of interested members of the public, space is limited. Because the meeting will be held in a secured facility, members of the public who plan to attend the meeting must contact the Office of the Under Secretary for Domestic Finance, at (202) 622-2610, to inform the Department of the desire to attend the meeting and to provide the information that will be required to facilitate entry into the White House. In addition, the meeting can be viewed via live webcast at http://www.whitehouse.gov. The purpose of this meeting is to discuss general organizational matters of the PERAB and begin discussing the issues impacting the strength and competitiveness of the Nation's economy.

Andrew Mayock,
Executive Secretary.

[FR Doc. E9-11765 Filed 5-18-09; 8:45 am]

BILLING CODE 4810-25-P